DEPARTMENT OF DEFENSE

Department of the Army, Corps of Engineers

Intent To Prepare a Draft NEPA Document for the Upper St. Anthony Falls Lock and Dam Disposition Study, Hennepin County, Minnesota

AGENCY: U.S. Army Corps of Engineers, DoD.

ACTION: Notice of intent to initiate public scoping and prepare an Environmental Assessment (EA).

SUMMARY: The St. Paul District, Army Corps of Engineers (Corps) is conducting a study regarding the disposition of the Upper St. Anthony Falls Lock and Dam (USAF) located at river mile 853.9 on the Upper Mississippi River, in Hennepin County, Minnesota. The study will include an environmental assessment and consider modifications that could improve the overall quality of the environment in the public interest, including removal of federally-owned facilities. The study will evaluate three types of alternatives: (1) No action; (2) de-authorization and disposal of all federally-owned and operated facilities; and (3) partial de-authorization and disposal of features or separable elements not required for flood mitigation operations. The study will also explore opportunities to improve the overall quality and health of the environment and/or enhance recreation. It is anticipated that a preliminary draft report of the integrated Disposition Study and Environmental Assessment (EA) will be available for a minimum 30-day public comment period in the Spring of 2020. The St. Paul District of the Army Corps of Engineers is soliciting public comments on the scope of the proposed study and significant issues that should be analyzed in the EA.

DATES:

Scoping Meetings: The Corps will hold public scoping meetings at the following times and locations during the scoping period:

Tuesday, August 13th, 2019 from 6:00 p.m. to 8:00 p.m. at the Mill City Museum, 704 South Second Street, Minneapolis, Minnesota 55401.

Monday, August 19th, 2019 from 6:00 p.m. to 8:00 p.m. at the Michael Dowling School, 3900 West River Parkway, Minneapolis, Minnesota 55406.

At the scoping meetings, the public is encouraged to submit resource information, and identify topics to be considered in the development of the EA. Public meetings will include a presentation and question and answer session. The Corps will require formal comments to be provided in writing, which will be accepted at the meetings or may be submitted at any time during the comment period.

Comments: The Corps will accept comments received or postmarked on or before October 20, 2019. Any comments received after the closing date may not be considered.

ADDRESSES: Comments may be submitted by one of the following methods:

Email—Written comments should be sent to: MplsLocksDisposition@usace.army.mil.

Mail/Courier—Written comments should be sent to: District Engineer, U.S. Army Corps of Engineers, St. Paul District, ATTN: Regional Planning and Environment Division North, 180 Fifth Street East, Suite 700, St. Paul, Minnesota 55101-1678

Comment Card—Comment cards provided as part of the public meetings will be collected at the end of the meeting or can be mailed to the address in the MAIL/COURIER section above.

If submitting comments by email, the following should be included in the subject line or first line of the message “USAF Disposition Study Comments”.

FOR FURTHER INFORMATION CONTACT: To have your name added to a mailing list for notices related to the preliminary draft report and EA or additional public meetings, submit an email request to MplsLocksDisposition@usace.army.mil. General questions about the study may be directed to Nan Bischoff, Project Manager, U.S. Army Corps of Engineers, St. Paul District, 180 Fifth Street East, Suite 700, St. Paul, MN 55101-1678; telephone (651) 290-5426; email: Nanette.m.bischoff@usace.army.mil.

SUPPLEMENTARY INFORMATION: The Corps operates USAF, located on the Mississippi River in Minneapolis, Minnesota. Section 2010 of the Water Resources Reform and Development Act of 2014, Public Law 113-121, directed the Corps to close the lock to navigation operations but to continue to carry out emergency operations necessary to mitigate flood damages. Navigation at the lock ceased on June 9th, 2015. Prior to the closure of USAF, the lock operated as part of a system to support navigation on the upper reaches of the Mississippi River 9-foot navigation channel. With the lock at USAF now closed to navigation, the demand for both commercial and recreational lockage has decreased at Lower St. Anthony Falls Dam (LSAF) and Lock and Dam 1 (LD 1). A disposition study for LSAF and LD 1 will be conducted separately from the disposition study for USAF, and will follow a similar public scoping procedure. The LSAF and LD 1 disposition study is scheduled to begin in early 2021.

Section 216 of the Flood Control Act of 1970 authorizes the Secretary of the Army to review operations of completed projects, when found advisable due to changed physical, economic, or environmental conditions. Disposition studies are a specific type of Section 216 study with the intent to determine whether a water resources development project operated and maintained by the Corps of Engineers should be de-authorized and the associated real property and Government-owned improvements disposed of. An Initial Appraisal (IA) was conducted by the Corps in 2015 to determine if conditions exist which may warrant further analysis on a completed project as authorized by Section 216. The IA recommended investigation under this authority regarding the future use or disposition of USAF as well as LSAF and LD 1.

The Corps began a disposition study for USAF, LSAF, and LD 1 in early 2018 with the intent that all three sites would be studied and presented in one report. Public scoping meetings for a combined study were held in July 2018. The combined disposition study was put on hold following the enactment of the Water Resources Development Act of 2018 (WRDA 2018). WRDA 2018 contains two sections pertinent to the scope and timing of the disposition studies: Section 1168, entitled “Disposition of Projects” and Section 1225, entitled “Upper Mississippi River protection”. The full version of the WRDA 2018 may be found here: https://www.congress.gov/bill/115th-congress/senate-bill/3021/.

Following enactment of WRDA 2018, the Corps of Engineers solicited input and published implementation guidance for WRDA 2018, Sections 1168 and 1225. Input was provided by U.S. Senators Amy Klobuchar and Tina Smith of Minnesota, the National Park Service, the Friends of the Lock and Dam and the city of Minneapolis. The implementation guidance to Sections 1168 and 1225 of WRDA 2018 may be found here: https://www.usace.army.mil/Missions/Civil-Works/Project-Planning/Legislative-Links/wrda_2018/wrda2018_impguide/.

The USAF Disposition Study will analyze three types of alternatives at the USAF site: (1) The no action; (2) complete de-authorization by Congress of the Federal missions at the site and disposal of the properties; and (3) partial de-authorization and disposal. In addition, the study will examine opportunities to augment these three alternatives by considering measures which: (1) Preserve recreational opportunities; (2) enhance recreational opportunities; (3) preserve the health of the ecosystem; (4) enhance the health of the ecosystem; (5) maintain the benefits to the natural ecosystem; and (6) maintain the benefits to the human environment. The partial disposition alternative will maintain the flood control capability of the structure. If the Corps determines that Federal interest no longer exists, it must consider, and may recommend, removal of the project or separable elements of the project under existing authorities.

In accordance with the National Environmental Policy Act of 1969 (NEPA), an Environmental Assessment (EA) for this study is anticipated and will be prepared by the St. Paul District. The Corps is soliciting public comments on the scope of the EA and significant issues that should be addressed. The Corps will also accept comments related to potential new ownership and management measures.

The Disposition Study ends when the final report is transmitted to the Corps of Engineers' Headquarters Office for review and processing of recommendations. Complete and partial de-authorization would require Congressional Approval.

Two public scoping meetings are planned as discussed in the DATES section above. The purpose of these meetings is to discuss background of the study, identify the properties and structures that are the subject of the study, discuss the Federal disposal process, instruct parties on how to document their interest in future ownership, provide an opportunity to submit comments, and identify issues that should be addressed in the anticipated EA. While comments and questions will be entertained at the public meetings, the meetings will not be recorded nor minutes prepared. All formal comments will be requested to be provided in writing. Written comments will be accepted at the meetings. Comments can also be submitted by the methods listed in the ADDRESSES section. Once the draft EA is complete and made available for review, there will be additional opportunity for public comment through the NEPA process.

Persons needing reasonable accommodations in order to attend and participate in the public scoping meetings should contact the person listed under the FOR FURTHER INFORMATION CONTACT section as soon as possible. In order to allow sufficient time to process requests, please make contact no later than one week before the public meeting.

Written comments, including email comments, should be sent to the Corps at the address given in the ADDRESSES section of this Notice. Comments should be specific and pertain only to the issues relating to the action and the anticipated EA. The Corps will include all comments in the project record.

Before including your address, phone number, email address, or other personal identifying information in your comment, you should be aware that your entire comment—including your personal identifying information- will be publicly available. While you can ask us in your comment to withhold your personal identifying information from public review, the Corps cannot guarantee that we will be able to do so.

All submissions from organizations or businesses and from individuals identifying themselves as representatives or officials of organizations or businesses will be available for public review to the extent consistent with applicable law.

Dated: July 2, 2019.
Kari Hauck,
Acting Deputy Chief, Regional Planning and Environment Division North.

[FR Doc. 2019-15298 Filed 7-17-19; 8:45 am]

BILLING CODE 3720-58-P